DEPARTMENT OF AGRICULTURE

Agricultural Research Service

Solicitation of Input From Stakeholders Regarding the U.S. Sheep Experiment Station in Dubois, Idaho

AGENCY: Agricultural Research Service, USDA.

ACTION: Notice of virtual listening sessions and request for stakeholder input.

SUMMARY: The United States Department of Agriculture announces two (2) virtual listening sessions on the research activities conducted at the U.S. Sheep Experiment Station (USSES) in Dubois, Idaho.

DATES: Agricultural Research Service will hold two (2) virtual listening sessions on Wednesday, August 6, 2014 at 2:00 p.m. Eastern Time, and Thursday, August 7, 2014 at 11:00 a.m. Eastern Time, to collect stakeholder input. All comments not otherwise presented or submitted for the record at the virtual listening sessions must be submitted by close of business Thursday, August 14, 2014, to the mailing address or email below.

ADDRESSES: The listening sessions will take place virtually at the AT&T Meeting Rooms below. Please follow the pre-registration instructions to ensure your participation in the listening session of your choice.

Call-In instructions for Wednesday, August 6, 2014 at 2:00 p.m. Eastern Time:

Web Preregistration: Participants may preregister for this teleconference at http://emsp.intellor.com?p=416251&do=register&t=8. Once the participant registers, a confirmation page will display dial-in numbers and a unique PIN, and the participant will also receive an email confirmation of this information.

Call-In instructions for Thursday, August 7, 2014 at 11:00 a.m. Eastern Time:

Web Preregistration: Participants may preregister for this teleconference at http://emsp.intellor.com?p=416252&do=register&t=8. Once the participant registers, a confirmation page will display dial-in numbers and a unique PIN, and the participant will also receive an email confirmation of this information.

You may submit comments to at: Agricultural Research Service, Jamie L. Whitten Building, Room 302A, 1400 Independence Avenue SW., Washington, DC 20250, or via email at USSES@ars.usda.gov.

FOR FURTHER INFORMATION CONTACT: Mr. Michael Arnold, Budget Director, or Ms. Colette Wood, Program Analyst, Agricultural Research Service; telephone (202) 720-4421; fax: (202) 720-5427; or email: michael.arnold@ars.usda.gov or colette.wood@ars.usda.gov.

SUPPLEMENTARY INFORMATION: On Wednesday, August 6, 2014 at 2:00 p.m. Eastern Time and Thursday, August 7, 2014 at 11:00 a.m. Eastern Time, virtual listening sessions will be conducted for any interested Agricultural Research Service stakeholders and/or any interested parties, to hear your support, concerns, or opinions on the research activities at the USSES. ARS plans to consider stakeholder input received from this meeting as well as other written comments and stakeholder input in developing an appropriate course of action for USSES in Dubois, Idaho.

These virtual listening sessions are open to the public and any interested individuals wishing to attend.

Opportunity for public comment will be offered each day of the virtual listening session. Written comments by attendees or other interested stakeholders will be welcomed for the public record before and up to one week following the virtual listening sessions (by close of business Thursday, August 14, 2014). All statements will become a part of the official record of the Agricultural Research Service and will be kept on file for public review in the Office of the Administrator.

Done at Washington, DC, this 22nd day of July 2014.
Chavonda Jacobs-Young,
Administrator, Agricultural Research Service.

[FR Doc. 2014-18027 Filed 7-30-14; 8:45 am]

BILLING CODE 3410-03-P